DEPARTMENT OF HOMELAND SECURITY

Coast Guard

33 CFR Part 165

[COTP Charleston 04-046]

RIN 1625-AA00

Safety Zone; Bucksport, SC

AGENCY: Coast Guard, DHS.

ACTION: Temporary final rule.

SUMMARY: The Coast Guard is establishing a temporary safety zone for the Bucksport Marina Championship powerboat races, on the Intracoastal Waterway from Little River to Winyah Bay. This regulation is necessary for the safety of life during the event and to protect commercial and recreational boaters from the hazards associated with the races. Entry into the safety zone is prohibited unless authorized by the COTP Charleston or a designated representative.

DATES: This rule is effective from 10 a.m. on June 5, 2004 until 7 p.m. on June 6, 2004.

ADDRESSES: Documents indicated in this preamble as being available in the docket are part of docket COTP Charleston 04-046 and are available for inspection or copying at Coast Guard Marine Safety Office Charleston, South Carolina, between 8 a.m. and 4 p.m., Monday through Friday, except Federal Holidays.

FOR FURTHER INFORMATION CONTACT: LTJG Matthew Meskun, U.S. Coast Guard Marine Safety Office Charleston, South Carolina, at (843) 720-3240.

SUPPLEMENTARY INFORMATION:

Regulatory Information

We did not publish a notice of proposed rulemaking (NPRM) for this regulation. Under 5 U.S.C. 553(b)(B), the Coast Guard finds that good cause exists for not publishing an NPRM. Publishing an NPRM would be unnecessary and contrary to public safety interests. This rule is needed to minimize danger to the public resulting from participant craft in the Bucksport Marina Championship. The event will be held from 10 a.m. on June 5, 2004 until 7 p.m. on June 6, 2004 and there is not sufficient time to allow for a notice and comment period prior to the event. For the safety concerns noted, it is in the public interest to have these regulations in effect during the event. In addition, advance notifications will be made via marine information broadcasts.

For the same reasons, under 5 U.S.C. 553(d)(3), the Coast Guard finds that good cause exists for making this rule effective less than 30 days after publication in the Federal Register.

Background and Purpose

The Bucksport Marina Championship is a powerboat race, which will consist of 25 powerboats 13 to 18 feet in length. Approximately 75 spectator craft are also expected to view the races. Portions of the Intracoastal Waterway will be closed for the races. The safety zone will minimize dangers to spectators in attendance. These regulations require that non-participants remain outside the operating area for their safety. The operating area includes all waters of the Atlantic Intracoastal Waterway, from bank to bank, from Little River at Day Beacon 35 (LLNR 33835) to Winyah Bay 100 yards South of light 38 (LLNR 33845).

During the event, non-participating vessels are prohibited from anchoring, mooring, or transiting within this zone, unless authorized by the Captain of the Port, Charleston, South Carolina or the Coast Guard Patrol Commander.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary, because the safety zone will only be in effect for 2 days and only covers a limited area.

Small Entities

Under the Regulatory Flexibility Act (5 U.S.C. 601-612), we have considered whether this rule would have a significant economic impact on a substantial number of small entities. The term “small entities” comprises small business, not-for-profit organizations that are independently owned and operated and are not dominant in their fields, and governmental jurisdictions with populations of less than 50,000.

The Coast Guard certifies under 5 U.S.C. 605(b) that this rule will not have a significant economic impact on a substantial number of small entities. This rule will not have a significant economic impact on a substantial number of small entities for the following reasons: this rule is for a highly publicized event and will only be in effect for a limited time and for a limited area. The Coast Guard Patrol Commander can authorize transits through the regulated area during scheduled openings every 1.5 hours.

Assistance for Small Entities

Under section 213(a) of the Small Business Regulatory Enforcement Fairness Act of 1996 (Pub. L. 104-121), we offer to assist small entities in understanding the rule so that they could better evaluate its effects on them and participate in the rulemaking process. Small entities may contact the person listed under FOR FURTHER INFORMATION CONTACT for assistance in understanding and participating in this rulemaking. We also have a point of contact for comment on actions by employees of the Coast Guard. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in the preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or safety that may disproportionately affect children.

Indian Tribal Governments

This rule does not have tribal implications under Executive Order 13175, Consultation and Coordination with Indian Tribal Governments, because it does not have a substantial direct effect on one or more Indian tribes, on the relationship between the Federal Government and Indian Tribes, or on the distribution of power and responsibilities between the Federal Government and Indian tribes.

Energy Effects

We have analyzed this rule under Executive Order 13211, Actions Concerning Regulations That Significantly Affect Energy Supply, Distribution, or Use. We have determined that it is not a “significant energy action” under that order, because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph 34(g), of the Instruction, from further environmental documentation. Under figure 2-1, paragraph (34)(g), of the Instruction, an “Environmental Analysis Check List” and a “Categorical Exclusion Determination” are not required for this rule. Under paragraph 34(g), of the Instruction, Coast Guard categorical exclusions include regulations that establish safety zones.

List of Subjects in 33 CFR Part 165

Harbors, Marine safety, Navigation (water), Reporting and recordkeeping requirements, Security measures, Waterways.

Regulations

For the reasons discussed in the preamble, the Coast Guard amends 33 CFR part 165, as follows:

PART 165—SAFETY ZONES AND SECURITY ZONES

1. The authority citation for part 165 continues to read as follows:

Authority: 33 U.S.C. 1226, 1231; 46 U.S.C. Chapter 701; 50 U.S.C. 191; 195; 33 CFR 1.05-1(g), 6.04-1, 6.04-6, and 160.5; Pub. L. 107-295, 116 Stat. 2064; Department of Homeland Security Delegation No. 0170.1.

2. Add new temporary § 165.T07-046 to read as follows:

§ 165.T07-046 Safety Zone; Bucksport, SC.

(a) Regulated area. The Coast Guard is establishing a temporary fixed safety zone in all waters of the Atlantic Intracoastal Waterway, from bank to bank and surface to bottom, from Little River at Day Beacon 35 (LLNR 33835) to Winyah Bay 100 yards South of Light 38 (LLNR 33845).

(b) Coast Guard Patrol Commander. The Coast Guard Patrol Commander is a commissioned, warrant, or petty officer of the Coast Guard who has been designated by the Captain of the Port, Charleston, South Carolina.

(c) Regulations. In accordance with the general regulations in 165.23 of this part, anchoring, mooring or transiting in this zone is prohibited unless authorized by the Coast Guard Captain of the Port or Coast Guard Patrol Commander.

(d) Effective period: This rule is effective from 10 a.m. on June 5, 2004 until 7 p.m. on June 6, 2004.

Dated: May 19, 2004.
Keith B. Janssen,
Lieutenant Commander, U.S. Coast Guard, Captain of the Port, Charleston, South Carolina.

[FR Doc. 04-12357 Filed 5-28-04; 8:45 am]

BILLING CODE 4910-15-P